DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator of FEMA has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Shelby (FEMA Docket No: B-1067) | City of Montevallo (08-04-6211P) | June 11, 2009; June 18, 2009; The Birmingham News | The Honorable Ben McCrory, Mayor, City of Montevallo, 545 Main Street, Montevallo, AL 35115 | October 16, 2009 | 010349
California:
San Bernardino (FEMA Docket No: B-1067) | City of Redlands (09-09-0076P) | June 11, 2009; June 18, 2009; Redlands Daily Facts | The Honorable Jon Harrison, Mayor, City of Redlands, 35 Cajon Street, Suite 200, Redlands, CA 92373 | May 29, 2009 | 060279
San Diego (FEMA Docket No: B-1067) | City of San Diego (09-09-0194P) | June 10, 2009; June 17, 2009; San Diego Transcript | The Honorable Jerry Sanders, Mayor, San Diego County, 11th Floor, 202 C Street, San Diego, CA 92101 | October 15, 2009 | 060295
San Diego (FEMA Docket No: B-1067) | Unincorporated areas of San Diego County (09-09-0374P) | June 17, 2009; June 24, 2009; San Diego Transcript | The Honorable Dianne Jacob, Chairwoman, San Diego County Board of, Supervisors, 1600 Pacific Highway, Room 335, San Diego, CA 92101 | October 22, 2009 | 060284
Ventura (FEMA Docket No: B-1067) | City of Oxnard (09-09-1399P) | June 11, 2009; June 18, 2009; Ventura Star | The Honorable Thomas Holden, Mayor, City of Oxnard, 300 West 3rd Street, Oxnard, CA 93030 | May 29, 2009 | 060417
Colorado:
Adams & Arapahoe (FEMA Docket No: B-1067) | City of Aurora (09-08-0361P) | June 11, 2009; June 18, 2009; Aurora Sentinel | The Honorable Ed Tauer, Mayor, City of Aurora, 15151 East Alameda Parkway, Aurora, CO 80012 | October 16, 2009 | 080002
Arapahoe (FEMA Docket No: B-1070) | City of Aurora (09-08-0620P) | July 2, 2009; July 9, 2009; Aurora Sentinel | The Honorable Ed Tauer, Mayor, City of Aurora, 15151 East Alameda Parkway, Aurora, CO 80012 | June 23, 2009 | 080002
Arapahoe (FEMA Docket No: B-1070) | City of Sheridan (09-08-0267P) | June 12, 2009; June 19, 2009; Englewood Herald | The Honorable Mary Carter, Mayor, City of Sheridan, 4101 South Federal Boulevard, Sheridan, CO 80110 | October 19, 2009 | 080018
Denver (FEMA Docket No: B-1070) | City and County of Denver (09-08-0620P) | July 2, 2009; July 9, 2009; Denver Post | The Honorable John W. Hickenlooper, Mayor, City and County of Denver, 1437 Bannock Street, Suite 350, Denver, CO 80202 | June 23, 2009 | 080046
Douglas (FEMA Docket No: B-1067) | Unincorporated areas of Douglas County (09-08-0431P) | May 21, 2009; May 28, 2009; Douglas County News-Press | The Honorable Jack Hilbert, Chairman, Douglas County Board of, Commissioners, 100 3rd Street, Castle Rock, CO 80104 | September 25, 2009 | 080049
Douglas (FEMA Docket No: B-1067) | Town of Parker (09-08-0431P) | May 21, 2009; May 28, 2009; Douglas County News-Press | The Honorable David Casiano, Mayor, Town of Parker, 20120 East Main Street, Parker, CO 80138 | September 25, 2009 | 080310
Summit (FEMA Docket No: B-1067) | Town of Silverthorne (08-08-0785P) | June 5, 2009; June 12, 2009; Summit County Journal | The Honorable David Koop, Mayor, Town of Silverthorne, P.O. Box 1309, Silverthorne, CO 80498 | May 22, 2009 | 080201
Connecticut:
Hartford (FEMA Docket No: B-1067) | Town of Farmington (09-01-0125P) | March 23, 2009; March 30, 2009; The Hartford Courant | The Honorable Michael Clark, Chair, Town of Farmington Council, One Monteith Drive, Farmington, CT 06032 | July 28, 2009 | 090029
New Haven (FEMA Docket No: B-1067) | Town of Branford (09-01-0507P) | June 11, 2009; June 18, 2009; Branford Sound | The Honorable Anthony DaRos, First Selectman, Town of Branford, P.O. Box 150, Branford, CT 06405 | May 29, 2009 | 090073
Delaware: New Castle (FEMA Docket No: B-1067) | Unincorporated areas of New Castle County (09-03-0923P) | June 9, 2009; June 16, 2009; The News Journal | Mr. Christopher Coons, New Castle County Executive, 87 Reads Way Corporate Commons, New Castle, DE 19720 | October 13, 2009 | 105085
Florida:
Lee (FEMA Docket No: B-1067) | Unincorporated areas of Lee County (09-04-3111P) | June 8, 2009; June 15, 2009; Fort Myers News-Press | The Honorable Ray Judah, Chairman, Lee County Board, of Commissioners, P.O. Box 398, Fort Myers, FL 33902 | May 27, 2009 | 125124
Marion (FEMA Docket No: B-1070) | City of Ocala (09-04-0503P) | June 25, 2009; July 2, 2009; Star Banner | The Honorable Randy Ewers, Mayor, City of Ocala, P.O. Box 1270, Ocala, FL 34478 | June 12, 2009 | 120330
Orange (FEMA Docket No: B-1070) | City of Orlando (09-04-3112P) | July 9, 2009; July 16, 2009; Orlando Weekly | The Honorable Buddy Dyer, Mayor, City of Orlando, 400 South Orange Avenue, Orlando, FL 32802 | September 28, 2009 | 120186
Sumter (FEMA Docket No: B-1070) | Unincorporated areas of Sumter County (09-04-3548P) | July 9, 2009; July 16, 2009; Sumter County Times | The Honorable Richard Hoffman, Commissioner, District One, Sumter County Board of Commissioners, 910 North Main Street, Bushnell, FL 33513 | June 30, 2009 | 120296
Georgia:
Columbia (FEMA Docket No: B-1067) | Unincorporated areas of Columbia County (09-04-2902P) | June 14, 2009; June 21, 2009; Columbia County News-Times | The Honorable Ron C. Cross, Chairman, Columbia County Board of Commissioners, P.O. Box 498, Evans, GA 30809 | May 29, 2009 | 130059
Columbia (FEMA Docket No: B-1067) | City of Grovetown (09-04-2902P) | June 14, 2009; June 21, 2009; Columbia County News-Times | The Honorable George W. James III, Mayor, City of Grovetown, 201 Williams Street, Grovetown, GA 30813 | May 29, 2009 | 130265
Canyon (FEMA Docket No: B-1067) | Unincorporated areas of Canyon County (08-10-0685P) | May 11, 2009; May 18, 2009; Idaho Press-Tribune | The Honorable David Ferdinand, Chairman, Canyon County Board of Commissioners, 1115 Albany Street, Caldwell, ID 83605 | April 30, 2009 | 160208
Teton (FEMA Docket No: B-1063) | Unincorporated areas of Teton County (08-10-0585P) | May 21, 2009; May 28, 2009; Teton Valley News | The Honorable Larry Young, Chairman, Teton County Board of Commissioners, P.O. Box 756, Driggs, ID 83422 | September 25, 2009 | 160230
Illinois:
DuPage (FEMA Docket No: B-1070) | Village of Villa Park (08-05-4476P) | July 10, 2009; July 17, 2009; Villa Park Argus | The Honorable Joyce Stupegia; President, Village of Villa Park; 20 South Ardmore Avenue; Villa Park, IL 60181 | June 29, 2009 | 170217
Will (FEMA Docket No: B-1070) | Unincorporated areas of Will County (09-05-3443P) | July 6, 2009; July 13, 2009; The Herald News | The Honorable Lawrence M. Walsh, Will County Executive, 302 North Chicago Street, Joliet, IL 60432 | November 10, 2009 | 170695
Indiana:
Elkhart (FEMA Docket No: B-1070) | City of Elkhart (09-05-0815P) | July 3, 2009; July 10, 2009; The Elkhart Truth | The Honorable David Miller, Mayor, City of Elkhart, Municipal Building, 229 South 2nd Street, Elkhart, IN 46516 | November 9, 2009 | 180057
Elkhart (FEMA Docket No: B-1070) | Unincorporated areas of Elkhart County (09-05-0815P) | July 3, 2009; July 10, 2009; The Elkhart Truth | The Honorable Terry Rodino, President, Elkhart County Board of Commissioners, 117 North 2nd Street, Goshen, IN 46526 | November 9, 2009 | 180056
Kansas:
McPherson (FEMA Docket No: B-1070) | City of McPherson (09-07-0243P) | July 7, 2009; July 14, 2009; McPherson Sentinel | The Honorable Thomas A. Brown, Mayor, City of McPherson, P.O. Box 1008, McPherson, KS 67460 | June 26, 2009 | 200217
Sedgwick (FEMA Docket No: B-1067) | Unincorporated areas of Sedgwick County (08-07-1331P) | April 20, 2009; April 27, 2009; Wichita Eagle | The Honorable Kelly Parks, Chairman, Sedgwick County Board of Commissioners, County Courthouse, 525 North Main Street, Wichita, KS 67203 | August 25, 2009 | 200321
Sedgwick (FEMA Docket No: B-1067) | City of Valley Center (08-07-1331P) | April 20, 2009; April 27, 2009; Wichita Eagle | The Honorable Michael D. McNown, Mayor, City of Valley Center, P.O. Box 188, Valley Center, KS 67147 | August 25, 2009 | 200327
Michigan: Macomb (FEMA Docket No: B-1067) | Township of Shelby (09-05-0484P) | June 21, 2009; June 28, 2009; The Source | The Honorable Richard Stathakis, Supervisor, Shelby Township, 52700 Van Dyke Avenue, Shelby Township, MI 48316 | October 19, 2009 | 260126
Minnesota:
Anoka (FEMA Docket No: B-1070) | City of Blaine (08-05-4922P) | March 27, 2009; April 3, 2009; Blaine-Spring Lake Park Life | The Honorable Thomas Ryan, Mayor, City of Blaine, 12147 Radisson Road Northeast, Blaine, MN 55449 | July 27, 2009 | 270007
Anoka (FEMA Docket No: B-1070) | City of Coon Rapids (08-05-4922P) | March 27, 2009; April 3, 2009; Coon Rapids Herald | The Honorable Tim Howe, Mayor, City of Coon Rapids, 11155 Robinson Drive, Coon Rapids, MN 55433 | July 27, 2009 | 270011
Olmsted (FEMA Docket No: B-1063) | Unincorporated areas of Olmsted County (09-05-1227P) | May 26, 2009; June 2, 2009; Post-Bulletin | The Honorable Kenneth W. Brown, Commissioner, c/o County Administration, 151 4th Street Southeast, Rochester, MN 55904 | May 15, 2009 | 270626
Olmsted (FEMA Docket No: B-1063) | City of Rochester (09-05-1227P) | May 26, 2009; June 2, 2009; Post-Bulletin | The Honorable Ardell F. Brede, Mayor, City of Rochester, 201 4th Street Southeast, Room 281, Rochester, MN 55904 | May 15, 2009 | 275246
Stearns (FEMA Docket No: B-1063) | City of Cold Springs (09-05-2287P) | June 2, 2009; June 9, 2009; Cold Springs Record | The Honorable Doug Schmitz, Mayor, City of Cold Spring, 12 11th Avenue North, Cold Spring, MN 56320 | October 7, 2009 | 270444
Mississippi: Rankin (FEMA Docket No: B-1070) | City of Richmond (09-04-2764P) | July 8, 2009; July 15, 2009; Rankin County News | The Honorable Shirley Hall, Mayor, City of Richland, P.O. Box 180609, Richland, MS 39218 | July 30, 2009 | 280299
Missouri: Jefferson (FEMA Docket No: B-1063) | Unincorporated areas of Jefferson County (09-07-0429P) | June 4, 2009; June 11, 2009; Jefferson County Leader | Mr. Chuck Banks, Jefferson County Executive, P.O. Box 100, Hillsboro, MO 63050 | May 28, 2009 | 290808
Montana:
Carbon (FEMA Docket No: B-1070) | City of Red Lodge (09-08-0545P) | June 11, 2009; June 18, 2009; Carbon County News | The Honorable Betsy Scanlin, Mayor, City of Red Lodge, P.O. Box 9, Red Lodge, MT 59068 | October 16, 2009 | 300007
Flathead (FEMA Docket No: B-1063) | Unincorporated areas of Flathead County (09-08-0251P) | May 26, 2009; June 2, 2009; Daily Inter Lake | The Honorable Dale Lauman, Chairman, Flathead County Board of, Commissioners, 800 South Main Street, Kalispell, MT 59901 | September 30, 2009 | 300023
Nebraska: Lincoln (FEMA Docket No: B-1067) | City of North Platte (09-07-1206P) | June 25, 2009; July 2, 2009; North Platte Telegraph | The Honorable Marc Kaschke, Mayor, City of North Platte, 211 West 3rd Street, North Platte, NE 69101 | June 15, 2009 | 310143
New Mexico: Sandoval (FEMA Docket No: B-1063) | City of Rio Rancho (09-06-0561P) | June 5, 2009; June 12, 2009; Albuquerque Journal | The Honorable Thomas E. Swisstack, Mayor, City of Rio Rancho, 3200 Civic Center Circle Northeast, Rio Rancho, NM 87144 | May 26, 2009 | 350146
New York: Rockland (FEMA Docket No: B-1059) | Town of Ramapo (09-02-0256P) | May 11, 2009; May 18, 2009; The Journal News | The Honorable Christopher St. Lawrence, Supervisor, Town of Ramapo, 237 Route 59, Suffern, NY 10901 | October 27, 2009 | 365340
Ohio:
Franklin (FEMA Docket No: B-1070) | City of Dublin (08-05-2843P) | June 17, 2009; June 24, 2009; The Dublin News | The Honorable Mary Chinnici-Zuercher, Mayor, City of Dublin, 5200 Emerald Parkway, Dublin, OH 43017 | October 22, 2009 | 390673
Hancock (FEMA Docket No: B-1070) | Unincorporated areas of Hancock County (09-05-2984P) | June 30, 2009; July 7, 2009; The Courier | The Honorable Edward D. Ingold, Hancock County Commissioner, 322 South Main Street, Findlay, OH 45840 | November 4, 2009 | 390767
Lucas (FEMA Docket No: B-1067) | City of Toledo (09-05-0642P) | June 3, 2009; June 10, 2009; Toledo Blade | The Honorable Carleton S. Finkbeiner, Mayor, City of Toledo, 1 Government Center, 640 Jackson Street, Suite 2200, Toledo, OH 43604 | May 21, 2009 | 395373
South Carolina:
Aiken (FEMA Docket No: B-1063) | Unincorporated areas of Aiken County (09-04-1792P) | May 8, 2009; May 15, 2009; Aiken Standard | The Honorable Ronnie Young, Aiken County Council Chairman, 736 Richland Avenue West, Aiken, SC 29801 | April 30, 2009 | 450002
Aiken (FEMA Docket No: B-1063) | City of North Augusta (09-04-1792P) | May 8, 2009; May 15, 2009; Aiken Standard | The Honorable Lark W. Jones, Mayor, City of North Augusta, P.O. Box 6400, North Augusta, SC 29861 | April 30, 2009 | 450007
Lancaster (FEMA Docket No: B-1070) | Unincorporated Areas of Lancaster County (09-04-1036P) | June 8, 2009; June 15, 2009; Rock Hill Herald | The Honorable Steve Willis, Lancaster County Administrator, P.O. Box 1809, Lancaster, SC 29721 | October 13, 2009 | 450120
South Dakota: Lawrence (FEMA Docket No: B-1063) | City of Deadwood (09-08-0225P) | June 3, 2009; June 10, 2009; Lawrence County Journal | The Honorable Francis A. Toscana, Mayor, City of Deadwood, P.O. Box 413, Deadwood, SD 57732 | October 8, 2009 | 460045
Tennessee: Wilson (FEMA Docket No: B-1067) | City of Mt. Juliet (09-04-1406P) | June 19, 2009; June 26, 2009; Lebanon Democrat | The Honorable Linda Elam, Mayor, City of Mount Juliet, 2425 North Mount Juliet Road, Mount Juliet, TN 37122 | June 10, 2009 | 470290
Texas: Bexar (FEMA Docket No: B-1070) | Unincorporated areas of Bexar County (08-06-2311P) | July 6, 2009; July 13, 2009; Daily Commercial Recorder | The Honorable Nelson W. Wolff, Bexar County Judge, Bexar County Courthouse, 100 Dolorosa Street, Suite 120, San Antonio, TX 78205 | July 30, 2009 | 480035
Bexar (FEMA Docket No: B-1067) | City of San Antonio (09-06-0261P) | June 10, 2009; June 17, 2009; San Antonio Express-News | The Honorable Phil Hardberger, Mayor, City of San Antonio, P.O. Box 839966, San Antonio, TX 78283 | October 15, 2009 | 480045
Cherokee (FEMA Docket No: B-1067) | City of Jacksonville (09-06-0483P) | June 9, 2009; June 16, 2009; Jacksonville Daily Progress | The Honorable Robert N. Haberle, Mayor, City of Jacksonville, P.O. Box 1390, Jacksonville, TX 75766 | October 14, 2009 | 480123
Collin (FEMA Docket No: B-1070) | City of Plano (08-06-2741P). | July 3, 2009; July 10, 2009; Plano Star-Courier | The Honorable Phil Dyer, Mayor, City of Plano, 1520 Avenue K, Plano, TX 75074 | November 9, 2009 | 480140
Kerr (FEMA Docket No: B-1063) | City of Kerrville (09-06-0116P) | May 11, 2009; May 18, 2009; Kerrville Daily Times | The Honorable Todd Bock, Mayor, City of Kerrville, 800 Junction Highway, Kerrville, TX 78028 | September 15, 2009 | 480420
Tarrant (FEMA Docket No: B-1067) | City of Fort Worth (09-06-1123P) | April 3, 2009; April 10, 2009; Fort Worth Star-Telegram | The Honorable Michael J. Moncrief, Mayor, City of Fort Worth, 1000 Throckmorton Street, Fort Worth, TX 76102 | March 25, 2009 | 480596
Travis (FEMA Docket No: B-1070) | City of Austin (08-06-3046P). | May 12, 2009; May 19, 2009; Austin American Statesman | The Honorable Will Wynn, Mayor, City of Austin, P.O. Box 1088, Austin, TX 78767 | April 30, 2009 | 480624
Webb (FEMA Docket No: B-1070) | City of Laredo (09-06-0689P) | June 11, 2009; June 18, 2009; Laredo Morning Times | The Honorable Raul G. Salinas, Mayor, City of Laredo, 1110 Houston Street, Laredo, TX 78040 | October 16, 2009 | 480651
Utah: Davis (FEMA Docket No: B-1063) | City of Centerville (07-08-0754P) | May 26, 2009; June 2, 2009; Salt Lake Tribune | The Honorable Ronald G. Russell, Mayor, City of Centerville, 73 West Ricks Creek Way, Centerville, UT 84014 | May 12, 2009 | 490040
Virginia:
City of Harrisonburg (FEMA Docket No: B-1070) | City of Harrisonburg (09-03-0277P) | June 26, 2009; July 3, 2009; Daily News-Record | The Honorable Kai Degner, Mayor, City of Harrisonburg, 345 South Main Street, Harrisonburg, VA 22801 | November 2, 2009 | 510076
City of Waynesboro (FEMA Docket No: B-1070) | City of Waynesboro (09-03-0235P) | June 8, 2009; June 15, 2009; The News Virginian | The Honorable Timothy D. Williams, Mayor, City of Waynesboro, P.O. Box 1028, Waynesboro, VA 22980 | June 29, 2009 | 515532
Prince Edward (FEMA Docket No: B-1070) | Town of Farmville (08-03-1396P) | July 1, 2009; July 8, 2009; Farmville Herald | The Honorable Sydnor C. Newman, Jr., Mayor, Town of Farmville, 116 North Main Street, Farmville, VA 23901 | October 3, 2009 | 510118
Rockingham (FEMA Docket No: B-1063) | Town of Bridgewater (09-03-0163P) | May 21, 2009; May 28, 2009; Daily News-Record | Mr. Bob F. Holton, Town of Bridgewater Superintendent, 201 Green Street, Bridgewater, VA 22812 | May 12, 2009 | 510134
Rockingham (FEMA Docket No: B-1063) | Unincorporated areas of Rockingham County (09-03-0163P) | May 21, 2009; May 28, 2009; Daily News-Record | Mr. Joseph F. Paxton, Rockingham County Administrator, 20 East Gay Street, Harrisonburg, VA 22801 | May 12, 2009 | 510133
Wisconsin: Dane (FEMA Docket No: B-1070) | Unincorporated areas of Dane County (08-05-5051P) | June 26, 2009; July 3, 2009; Wisconsin State Journal | The Honorable Kathleen Falk, Dane County Executive, City County Building, Room 421, 210 Martin Luther King Jr. Boulevard, Madison, WI 53703 | November 2, 2009 | 550077

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12482 Filed 5-24-10; 8:45 am]

BILLING CODE 9110-12-P